DEPARTMENT OF ENERGY

Federal Energy Regulatory Commission

[Project No. 2210-169 Virginia]

Appalachian Power Company; Notice of Availability of the Final Environmental Impact Statement for the Smith Mountain Pumped Storage Project

August 7, 2009.

In accordance with the National Environmental Policy Act of 1969 and the Federal Energy Regulatory Commission's (Commission) regulations, 18 CFR part 380 (Order No. 486, 52 FR 47897), the Office of Energy Projects has reviewed the application for license for the Smith Mountain Pumped Storage Project (FERC No. 2210), located on the headwaters of the Roanoke River in Bedford, Campbell, Franklin, and Pittsylvania counties in the Commonwealth of Virginia. Commission staff has prepared a final Environmental Impact Statement (EIS) for the project.

The final EIS contains staff's evaluation of the applicant's proposal and the alternatives for relicensing the Smith Mountain Project. The final EIS documents the views of governmental agencies, non-governmental organizations, affected Indian tribes, the public, the license applicant, and Commission staff.

A copy of the final EIS is available for review in the Commission's Public Reference Branch, Room 2A, located at 888 First Street, NE., Washington, DC 20426. The draft EIS also may be viewed on the Commission's Web site at http://www.ferc.gov, under the eLibrary link. Enter the docket number excluding the last three digits in the docket number field to access the document. For assistance, contact FERC Online Support at FERCOnlineSupport@ferc.gov or toll-free at 1-866-208-3676, or for TTY, (202) 502-8659.

You may also register online at http://www.ferc.gov/docs-filing/esubscription.asp to be notified via e-mail of new filings and issuances related to this or other pending projects. For assistance, contact FERC Online Support.

For further information, contact Allan Creamer at (202) 502-8365, or via e-mail at allan.creamer@ferc.gov.

Nathaniel J. Davis, Sr.,
Deputy Secretary.

[FR Doc. E9-19613 Filed 8-14-09; 8:45 am]

BILLING CODE 6717-01-P